NATIONAL AERONAUTICS AND SPACE ADMINISTRATION

[Notice 04-102]

NASA Advisory Council, Earth System Science and Applications Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Earth System Science and Applications Advisory Committee (ESSAAC).

DATES: Thursday, September 9, 2004, 8:30 a.m. to 5:30 p.m. and Friday, September 10, 2004, 8:30 a.m. to 4 p.m.

ADDRESSES: Holiday Inn, Discovery II Room, 500 C Street SW., Washington, DC 20024.

FOR FURTHER INFORMATION CONTACT: Mr. Gregory J. Williams, National Aeronautics and Space Administration, Washington, DC 20546, 202/358-0241.

SUPPLEMENTARY INFORMATION: The meeting will be open to the public up to the seating capacity of the room. The agenda for the meeting is as follows:

—Welcome/Opening Remarks

—NASA Overview

—Science Mission Directorate Overview

—Exploration Vision Discussion

—Research Strategy, Including Computational Modeling Priorities

—Information Technology Investment Review

—Data & Information Management Plan Progress

—Education Program Status

—Committee Deliberations

It is imperative that the meeting be held on these dates to accommodate the scheduling priorities of key participants. Visitors will be requested to sign a visitor's register.

R. Andrew Falcon,
Advisory Committee Management Officer, National Aeronautics and Space Administration.

[FR Doc. 04-18824 Filed 8-16-04; 8:45 am]

BILLING CODE 7510-01-P